DEPARTMENT OF AGRICULTURE

Forest Service

Forest Inventory and Analysis Data Management

AGENCY: Forest Service, USDA.

ACTION: Notice of issuance of agency interim directive.

SUMMARY: The Forest Service is re-issuing an interim directive (ID) to Forest Service Handbook (FSH) 4809.11, chapter 10, to guide Forest Inventory and Analysis employees in managing information in the Forest Inventory and Analysis Database (FIADB) in a manner consistent with the data privacy provisions of Section 1770 of the Food Security Act of 1985 (7 U.S.C. 2276). The FIADB contains detailed plot and tree level data with approximate plot coordinates that allow flexible spatial data analysis. The direction adopted in the ID allows for increased location accuracy of the data from within 1.0 mile to 0.5 for each Forest Inventory plot, while requiring data masking procedures to ensure data privacy as required by Section 1770 of the Food Security Act. This interim directive is issued as ID 4809.11-2005-1 to FSH 4809.11, chapter 10.

DATES: This interim directive is effective March 9, 2005.

ADDRESSES: This interim directive (ID 4809.11-2005-1) is available electronically from the Forest Service via the World Wide Web/Internet at http://www.fs.fed.us/im/directives. Additional information regarding data access guidelines may be directed to Richard Guldin, Science Policy, Planning, Information, and Inventory Staff—Forest Service, Mail Stop 1119, Washington, DC 20090-6090; by electronic mail to SPPII@fs.fed.us; or by fax to (703) 605-5131. Documents are also available for inspection in the office of Science Policy, Planning, Inventory and Information Staff at 1601 North Kent Street, Arlington, VA, Suite 4110, between regular business hours of 8:30 a.m. and 4:30 p.m. Monday through Friday. To facilitate entrance into the building, visitors are encouraged to call ahead (703-605-4177).

FOR FURTHER INFORMATION CONTACT: W. Brad Smith, Science Policy, Planning, Information and Inventory Staff by phone at (703) 605-4177 or by email to bsmith12@fs.fed.us.

SUPPLEMENTARY INFORMATION: Through its research organization, the Forest Service conducts continuous State-wide inventories of the Nation's forest resources to ascertain trends in the extent, condition, ownership, quantity, and quality of the forest resources as required by the Forest and Rangeland Renewable Resources Research Act of 1978 (16 U.S.C. 1600, 1641-1648). This information is collected in the Forest Inventory and Analysis Database. Forest statistics and subsequent analyses are released as State, Regional, and National reports and are based on data collected at sample locations on all land ownerships across the United States. Access to Forest Inventory and Analysis (FIA) data is generally available to the public through direct electronic links within 6 months for standard plots and within 12 months for forest health plots after completion of the annual field data collection season for each State.

The direction adopted in the interim directive (ID) provides for increased accuracy of publicly available plot locations from plus or minus 1 mile, to plus or minus one-half mile. Due to the increased spatial precision of data locations, additional masking measures are now necessary to ensure data privacy required by the Food Security Act. In addition, the ID provides further guidance concerning agency objectives and policy for the FIA program; direction for the use of authorized agents; and procedures to follow when releasing FIA data and information.

This ID issues without change direction previously contained in ID-4809.11-2003-1 with a notice of issuance published in the Federal Register on September 5, 2003 (68 FR 52739).

Dated: March 2, 2005.
Dale N. Bosworth,
Chief.

[FR Doc. 05-4533 Filed 3-8-05; 8:45 am]

BILLING CODE 3410-11-P